DEPARTMENT OF DEFENSE

Defense Acquisition Regulations System

Statement of Policy and Report Relating to Contracting With Employers of Persons With Disabilities

AGENCY: Defense Acquisition Regulations System, Department of Defense.

ACTION: Request for public comments.

SUMMARY: In accordance with section 848 of the National Defense Authorization Act for Fiscal Year 2006, the Department of Defense (DoD), the U.S. Department of Education (DoED), and the Committee for Purchase From People Who Are Blind or Severely Disabled, are required to issue a joint policy statement and report relating to contracting with employers of persons with disabilities, and are seeking comments that will assist in identifying appropriate policy solutions for implementation of the Randolph-Sheppard Act (20 U.S.C. 107 et seq.) and the Javits-Wagner-O'Day Act (41 U.S.C. 46 et seq.) as they pertain to both the operation and management of military dining facilities.

DATES: Submit written comments to the address shown below on or before March 1, 2006.

ADDRESSES: Submit comments to: Director, Defense Procurement and Acquisition Policy, 3060 Defense Pentagon, Attn: Ms. Susan Pollack, Washington, DC 20301-3060; or by e-mail to susan.pollack@osd.mil.

FOR FURTHER INFORMATION CONTACT: Susan Pollack, (703) 697-8336.

SUPPLEMENTARY INFORMATION: Subsections (b) and (c) of section 848 of the National Defense Authorization Act for Fiscal Year 2006 (Pub. L. 109-163) contain the following statement of policy and report relating to contracting with employers of persons with disabilities:

“(b) Statement of Policy—The Secretary of Defense, the Secretary of Education, and the Chairman of the Committee for Purchase From People Who Are Blind or Severely Disabled shall jointly issue a statement of policy related to the implementation of the Randolph-Sheppard Act (20 U.S.C. 107 et seq.) and the Javits-Wagner-O'Day Act (41 U.S.C. 48) within the Department of Defense and the Department of Education. The joint statement of policy shall specifically address the application of those Acts to both operation and management of all or any part of a military mess hall, military troop dining facility, or any similar dining facility operated for the purpose of providing meals to members of the Armed Forces, and shall take into account and address, to the extent practicable, the positions acceptable to persons representing programs implemented under each Act.

(c) Report—Not later than April 1, 2006, the Secretary of Defense, the Secretary of Education, and the Chairman of the Committee for Purchase From People Who Are Blind or Severely Disabled shall submit to the Committees on Armed Services of the Senate and the House of Representatives, the Committee on Health, Education, Labor and Pensions of the Senate, and the Committee on Education and the Workforce of the House of Representatives a report describing the joint statement of policy issued under subsection (b), with such findings and recommendations as the Secretaries consider appropriate.”

The interagency team is seeking suggestions for potential policy solutions and invites interested parties to submit written comments for consideration by the team in developing the policy statement and report to Congress. The DoD point of contact is collecting the written comments centrally for efficiency and to avoid duplication, however, please note that DoD will share all information received with DoED and the Committee for Purchase From People Who Are Blind or Severely Disabled.

Material that is business confidential information will be exempted from public disclosure as provided for by 5 U.S.C. 552(b)(4) (Freedom of Information Act rules). Anyone submitting business confidential information should clearly identify the business confidential portion of the submission and also provide a non-confidential submission, which can be placed in the public file. Comments not marked business confidential may be subject to disclosure under the Freedom of Information Act.

Michele P. Peterson,
Editor, Defense Acquisition Regulations System.

[FR Doc. E6-1513 Filed 2-2-06; 8:45 am]

BILLING CODE 6820-08-P